DEPARTMENT OF ENERGY

Federal Energy Regulatory Commission

Combined Notice of Filings #2

Take notice that the Commission received the following electric corporate filings:

¹ Memo reporting September 6, 2016 email with Linda Christman.

² Senators Jack Reed and Sheldon Whitehouse. U.S. House Representatives James R. Langevin and David N. Cicilline.

³ U.S. House Representatives Bob Goodlatte, H. Morgan Griffith, and Robert Hurt.

⁴ Memo providing correspondence with Tribes regarding Atlantic Coast Pipeline and Supply Header Projects.

Docket Numbers: EC16-185-000.

Applicants: Hancock Wind, LLC.

Description: Application for Authorization for Disposition of Jurisdictional Facilities and Request for expedited action of Hancock Wind, LLC.

Filed Date: 9/20/16.

Accession Number: 20160920-5111.

Comments Due: 5 p.m. ET 10/11/16.

Take notice that the Commission received the following exempt wholesale generator filings:

Docket Numbers: EG16-154-000.

Applicants: Cimarron Bend Assets, LLC.

Description: Notice of Self- Certification of Exempt Wholesale Generator Status of Cimarron Bend Assets, LLC.

Filed Date: 9/20/16.

Accession Number: 20160920-5082.

Comments Due: 5 p.m. ET 10/11/16.

Take notice that the Commission received the following electric rate filings:

Docket Numbers: ER16-2625-000.

Applicants: Niagara Mohawk Power Corporation, New York Independent System Operator, Inc.

Description: § 205(d) Rate Filing: Amended CRA No. 2264 between NMPC and Oneida Indian Nation to be effective 8/22/2016.

Filed Date: 9/20/16.

Accession Number: 20160920-5063.

Comments Due: 5 p.m. ET 10/11/16.

Docket Numbers: ER16-2626-000.

Applicants: Southwestern Electric Power Company.

Description: § 205(d) Rate Filing: AECC East Fayetteville Delivery Point Agreement Second Amd & Restated to be effective 8/30/2016.

Filed Date: 9/20/16.

Accession Number: 20160920-5095.

Comments Due: 5 p.m. ET 10/11/16.

Docket Numbers: ER16-2627-000.

Applicants: Southwestern Electric Power Company.

Description: § 205(d) Rate Filing: SWEPCO-NTEC Cass Tap to Roach Delivery Point Agreement to be effective 8/25/2016.

Filed Date: 9/20/16.

Accession Number: 20160920-5099.

Comments Due: 5 p.m. ET 10/11/16.

Docket Numbers: ER16-2628-000.

Applicants: AEP Texas Central Company.

Description: § 205(d) Rate Filing: TCC-Port Comfort Power Interconnection Agreement to be effective 8/25/2016.

Filed Date: 9/20/16.

Accession Number: 20160920-5103.

Comments Due: 5 p.m. ET 10/11/16.

Docket Numbers: ER16-2629-000.

Applicants: AEP Texas North Company.

Description: § 205(d) Rate Filing: TNC-CED Alamo 7 Interconnection Agreement to be effective 8/25/2016.

Filed Date: 9/20/16.

Accession Number: 20160920-5104.

Comments Due: 5 p.m. ET 10/11/16.

Docket Numbers: ER16-2630-000.

Applicants: Midcontinent Independent System Operator, Inc., MidAmerican Energy Company, ITC Midwest LLC.

Description: § 205(d) Rate Filing: 2016-09-20_SA 2954 MidAmerican-ITC Midwest FCA (Parnell Substation) to be effective 9/21/2016.

Filed Date: 9/20/16.

Accession Number: 20160920-5121.

Comments Due: 5 p.m. ET 10/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2016.
Nathaniel J. Davis, Sr.,
Deputy Secretary.

[FR Doc. 2016-23160 Filed 9-23-16; 8:45 am]

BILLING CODE 6717-01-P